DEPARTMENT OF STATE

[Public Notice 5610]

Bureau of Educational and Cultural Affairs (ECA) Request for Proposals for the Fundraising, Construction, Development, Organization and Management of a U.S. Pavilion/Exhibition at the World Expo 2010 Shanghai, China

Executive Summary: The Bureau of Educational and Cultural Affairs (ECA) of the Department of State requests proposals from private U.S. individuals, firms, associations and organizations (for profit and non-profit) for the fundraising, construction, development, organization and management of a U.S. pavilion/exhibition at the World Expo 2010 Shanghai China. The U.S. pavilion will be situated on a 6,000 square meter plot with a building footprint of 60% to 80% of the plot size. It could have multiple floors to a height not exceeding 20 meters. The Department will issue a “letter of intent” to the organization submitting the winning proposal authorizing that organization to proceed with fundraising to complete the U.S. Pavilion project. The letter will include guidelines on fundraising to be followed by the winning organization and will establish a deadline for completion of all fundraising activities. Note that all prospective donors will be vetted with the Department of State for potential conflict of interest. Cost for a representative U.S. pavilion/exhibit for Expo Shanghai 2010 is estimated to range between $75 million to $100 million and will be the sole responsibility of winning organization. The Department of State is not now authorized, and does not in the future intend to seek authorization from the U.S. Congress, to provide funding for any aspect of the U.S. pavilion/exhibition at the World Expo 2010 Shanghai China. The successful applicant will be responsible for all costs associated with the design, development, construction, and management of all aspects of the U.S. Pavilion, as well as all support for the U.S. Commissioner General. The U.S. Pavilion shall be considered on loan to the U.S. Government, and the successful applicant shall be solely responsible for the disposition of the U.S. Pavilion at the conclusion of the World Expo 2010 Shanghai China. The aforementioned loan shall be treated as a gift to the U.S. Government.

Only after the organization is able to demonstrate that all funding required for this project is in hand will the Department of State sign a Memorandum of Understanding (MOU) with that organization, sign a Participation Contract with the Expo organizing body, and appoint a Commissioner General. Proposals from non-U.S. citizens or non-U.S. firms or organizations shall be deemed ineligible for consideration.

Authority: Overall authority for Department of State support for U.S. participation in international expositions is contained in Section 102(a)(3) of the Mutual Educational and Cultural Exchange Act of 1961, as amended (22 U.S.C. 2452(a)(3), also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” Pursuant to this authority, ECA is the Department bureau responsible for coordinating U.S. participation in the World Expo 2010 Shanghai China. Consequently, ECA will represent the U.S. Government in dealings with the organizers of the World Expo 2010 Shanghai China.

Background: The Government of China has invited the United States to participate in the 2010 World Exposition in Shanghai, China and the U.S. Government has advised the Chinese Government of its intention to participate with an official U.S. Pavilion. The World Expo 2010 Shanghai China will be held on specially constructed exhibition grounds. The Expo opens on May 1, 2010 and closes on October 31, 2010.

World Expo 2010 Shanghai China is a large-scale international exposition or “world's fair” sanctioned or “registered” by the Bureau of International Expositions (BIE), an international treaty organization established to sanction and monitor international exhibitions of long duration (over three weeks) and significant scale. Invitations to world's fairs are extended from the host government to other governments. The United States is not a member of the BIE, and the U.S. Commissioner General will therefore not be a formal member of the Steering Committee of the College of Commissioners General for the World Expo 2010 Shanghai China.

With a projected 70 million visitors, the World Expo 2010 Shanghai China offers an excellent opportunity to educate and inform foreign audiences about the United States and its people and to promote broad U.S. commercial interests around the world. U.S. participation in Expo 2010 Shanghai China will confirm the strength and importance of U.S.-China bilateral ties and promote mutual understanding between the people of China and the United States.

The overall theme of the Expo, “Better City, Better Life”, will feature “harmonious co-existence of diverse cultures, harmonious economic development, harmonious living in the age of science and technology, harmonious functioning of communities—the cell of the city—and harmonious interactions between urban and rural areas.”

The theme for the U.S. Pavilion Exhibition should be directly linked to the overall theme of the Expo. ECA would welcome proposals for an exhibition to showcase American expertise and trends in some or all of the following areas: sustainable economic development and urban planning, the history of urban transportation, the role of historic and cultural preservation as well as urban parks in animating urban life and promoting cultural tourism; educating for economically sound environmental practices; the role played by a city as a platform for the construction of social relationships and social space, whether formal or informal. Other exhibit themes related to the overall Expo theme may also be proposed. The design concept for the U.S. Pavilion exhibition should appeal to a general, non-expert audience.

The U.S. Pavilion at World Expo 2010 Shanghai China will be an official representation of the United States; ECA must therefore ensure that the U.S. exhibit is nonpolitical in nature, of the highest possible quality, and balanced and representative of the diversity of American political, social and cultural life. The pavilion/exhibit must maintain the highest level of scholarly integrity and meet the highest standards of artistic achievement and academic excellence.

The U.S. Pavilion will be used to promote U.S. commercial interests as well as highlight outstanding U.S. cultural and artistic achievements. The proposed design for the U.S. Pavilion should include functional space for three purposes: an exhibition area, a live performance area and an administration/hospitality lounge area.

Further information on the World Expo 2010 Shanghai China can be found at the official expo Web site: http://www.expo2010china.com/

Funding Limitations: Section 204 of PL 106-113 (22 U.S.C. 2452b) limits the support the Department of State may provide for U.S. participation in international expositions registered by the Bureau of International Expositions (BIE). This includes the World Expo 2010 Shanghai China. This Request for Proposals is intended to help identify a private U.S. individual, firm or organization interested in and capable of providing a complete pavilion/exhibit at the World Expo 2010 Shanghai China as a gift to the United States Government. The Department of State is not now authorized, and does not in the future intend to seek authorization from the U.S. Congress, to provide funding for any aspect of the U.S. exhibition at the World Expo 2010 Shanghai China.

Costs: The U.S. pavilion will be situated on a 6,000 square meter plot with a building footprint of 60% to 80% of the plot size. It could have multiple floors to a height not exceeding 20 meters. It is estimated that a representative US pavilion/exhibit exhibition in that space will cost between $75 million and $100 million costs would include, but not be limited to:

• Design and construction of a building to house the exhibit and provide and appealing welcome on the exterior façade; provide exterior landscaping; incorporate appropriate internal and external crowd control features;

• Design of the exhibition; development of the story line;

• Raising all necessary funds;

• Production of exhibits, audio-visual materials, films, DVDs, videos, posters and other promotional materials needed for the exhibit;

• Promote and advertise the U.S. exhibition and Pavilion;

• Manage all administrative, personnel and exhibit costs, including salaries, benefits, staff housing expenses, contracting and supplier costs and consulting fees as well as funding associated with guides, escorts, and gifts;

• Transport, travel, insurance, postage and shipping fees;

• Security, development and implementation of a security program for the U.S. Pavilion in consultation with the State Department and appropriate Chinese authorities;

• Tear-down, including removal of exhibits and return of the pavilion in the condition required by the Expo organizers;

• Cultural and informational programs associated with the exhibition, including, but not limited to, production of U.S. National Day activities;

• Funding all expenses associated with the U.S. Commissioner General; and

• Creation and staffing of facilities devoted to hosting all VIPs visiting the U.S. Pavilion.

Expo Guidelines: Interested parties may obtain copies of the General Regulations and Expo Guidelines from the World Expo 2010 Shanghai China offices in China at: Bureau of Shanghai World Expo Coordination, 3588 Pudong (S) Road, Shanghai 200125, China.

Proposals should be provided in a narrative of no more than twenty (20) pages, single-spaced, plus a detailed budget with necessary attachments and/or exhibits. The narrative and additional documents should outline in as much detail as possible plans for providing a U.S. exhibition at the World Expo 2010 Shanghai China. Proposals should address the following:

• Willingness to adhere to the General Regulations of the World Expo 2010 Shanghai China as stipulated by the Expo organizers, including restrictions and limitation related to construction;

• Track record of working with exhibitions and on the proposed theme;

• Experienced staff with language facility;

• Clear concept for the exhibit plan and storyline;

• Detailed fundraising plan listing intended individuals and institutions to be approached, description of donation and sample donation agreement;

• Detailed budget showing breakdown of budget items required for each aspect of the project development and implementation;

• Timeline detailing each step in the design, construction, and breakdown of the U.S. Pavilion as well as the development of the U.S. Pavilion content and;

• Commitment to consult closely with and follow the guidance of ECA and U.S. diplomatic officers in China.

Proposals should state clearly that all materials developed specifically for the project will be subject to review and approval by ECA.

Eligible applicants: Applications may be submitted by public and private organizations (non-profit and profit). Non-profit organization must meet the provisions described in Internal Revenue Code section 26 U.S.C. 501(c)(3).

Contact Information to Request an Application Package: Please contact the Office of Citizen Exchanges, ECA/PE/C, Room 220, U.S. Department of State, SA-44, 301 4th Street, SW., Washington, DC, 20547, tel.: 202-453-8161; fax: 202-453-8168; or e-mail OgulJE@state.gov (with copies to PerezL@state.gov and HarveyRH@state.gov) for assistance. Please refer to Citizen Exchanges Shanghai Expo when making your request.

General Information Contact: James Ogul, Program Officer, telephone to 202-453-8161, fax to 202-453-8168 or e-mail at OgulJE@state.gov.

Non-profit organizations must have nonprofit status with the IRS at the time of application. If your organization is a private nonprofit which has not received a grant or cooperative agreement from ECA in the past three years, or if your organization received nonprofit status from the IRS within the past four years, you must submit the necessary documentation to verify nonprofit status. Failure to do so will cause your proposal to be declared technically ineligible.

Application Deadline and Methods of Submission:

Application Deadline Date: Thursday, February 9, 2007.

Reference: Citizen Exchanges Shanghai Expo.

Submitting Applications

Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

The original and ten copies of the application should be sent to: U.S. Department of State, SA-44, Bureau of Educational and Cultural Affairs, Ref.: Citizen Exchanges Shanghai Expo, Shanghai Program Management, ECA/PE, Room 224, 301 4th Street, SW., Washington, DC 20547.

Applicants must also submit the “Executive Summary” and “Proposal Narrative” sections of the proposal in text (.txt) format on a PC-formatted disk. The Bureau will provide these files electronically to the appropriate Public Affairs Section at the U.S. Embassy in Beijing for its review.

Application Review Information

Review Process

Proposals will be deemed ineligible if they are not submitted by a U.S. citizen, corporation or U.S.-based organization and do not fully adhere to the General Regulations of the World Expo 2010 Shanghai China and the guidelines stated herein.

The Bureau will review all proposals for technical eligibility. Proposals will be deemed ineligible if they do not fully adhere to the guidelines stated herein and in the Solicitation Package. The program office, as well as relevant elements of the U.S. Mission in China will review all eligible proposals. Eligible proposals will be subject to compliance with Federal and Bureau regulations and guidelines. A panel of senior U.S. Government employees and private sector experts will review eligible proposals. Proposals may also be reviewed by the Office of the Legal Adviser or by other Department elements. The final decision on a potential U.S. exhibitor will be at the discretion of the Department of State's Assistant Secretary for Educational and Cultural Affairs.

Review Criteria

Technically eligible proposals will be reviewed according to the criteria stated below. These criteria are not rank-ordered and all carry equal weight in the evaluation.

1. Program planning to achieve exhibit objectives: Proposals should clearly demonstrate how the planned exhibit will educate and inform foreign audiences about the United States and its people and promote broad U.S. commercial interests around the world, as well as how specifically it will address the theme and General Regulations of the Expo. Exhibit objectives should be reasonable, feasible, and flexible. The general concept for the pavilion structure should include three basic areas: an exhibition area, a live performance area and an administration/hospitality lounge area. The proposal should contain a detailed timeline and budget that demonstrate substantive undertakings and fundraising and logistical capacity.

2. Institutional Capacity/Record/Ability: Proposed personnel and institutional resources should be defined and adequate and appropriate to achieve the exhibit's goals. Proposals should demonstrate an institutional record of successful exhibit activities, including responsible fiscal management and full compliance with all BIE-registered Expo requirements. ECA will give serious weight to past performance and demonstrated potential of the staffing proposed for the project.

3. Multiplier effect/impact: Proposals should clearly state how exhibit content and related activities will strengthen long-term mutual understanding between the United States and China.

4. Support of Diversity: Proposals should demonstrate how plans will address ECA's requirement to encourage the involvement of participants from all traditionally underrepresented groups including women, racial and ethnic minorities and people with disabilities.

5. Monitoring and Project Evaluation Plan: Proposals that include a plan to measure the impact of the proposed U.S. exhibition, cultural and information programs are encouraged.

6. Cost-effectiveness: Proposals must include a proposed action plan and timeline for all aspects of the project with associated budget estimates. Proposals must also present a credible fundraising plan to fund all aspects of the U.S. Pavilion project. Note that prospective donors will be vetted with the State Department for potential conflict of interest.

Reporting Requirements: You must provide ECA with a hard copy original plus two copies of the following reports:

1. A program and financial reports no more than 90 days after the expiration of the award;

2. A program and financial reports every 90 days after the signature of the Memorandum of Understanding.

Agency Contacts

For questions about this announcement, contact: The Office of Citizen Exchanges, ECA/PE/C, Room 220, Citizen Exchanges Shanghai Expo, Bureau of Educational and Cultural Affairs, U.S. Department of State, SA-44, 301 4th Street, SW., Washington, DC, 20547; Attention: James E. Ogul Tel.: 202-453-8161; Fax: 202-453-8168; OgulJE@state.gov.

For correspondence with the Bureau concerning this RFP should reference Citizen Exchanges Shanghai Expo.

Other Information:

Notice: The terms and conditions published in this Request for Proposals are binding and may not be modified by any ECA representative. Explanatory information provided by ECA that contradicts published language will not be binding. Issuance of this RFP does not constitute an intention to agree to work with any private sector exhibitor at the World Expo 2010 Shanghai China. ECA reserves the right to select the final U.S. exhibitor for the World Expo 2010 Shanghai China and to approve all elements of the exhibition and project. Decisions made based on indications of interest submitted in response to this RFP will be made solely by ECA and are final.

Dina Habib Powell,
Assistant Secretary for Educational and Cultural Affairs, Department of State.

[FR Doc. E6-18877 Filed 11-7-06; 8:45 am]

BILLING CODE 4710-05-P